DEPARTMENT OF LABOR

Office of the Secretary

Submission for OMB Emergency Review; Comment Request

August 1, 2003.

The Department of Labor has submitted the following (see below) information collection request (ICR), utilizing emergency review procedures, to the Office of Management and Budget (OMB) for review and clearance in accordance with the Paperwork Reduction Act of 1995 (Pub. L. 104-13, 44 U.S.C. chapter 35). OMB approval has been requested by August 5, 2003. A copy of this ICR, with applicable supporting documentation, may be obtained by calling the Department of Labor. To obtain documentation, contact Darrin King on 202-693-4129 (This is not a toll free number) or email: king.darrin@dol.gov.

Comments and questions about the ICR listed below should be forwarded to the Office of Information and Regulatory Affairs, Attn: OMB Desk Officer for the Employment and Training Administration, Room 10235, Washington, DC 20503.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Employment and Training Administration.

Title: Request for Determination of Eligibility to Apply For the Alternative Trade Adjustment Assistance (ATAA) Program for Older Workers.

OMB Number: 1205-NEW.

Affected Public: Individuals or Households; Businesses or other for-profit; and State, Local, or Tribal Government.

Annualized Reporting Burden (time measured in hours):

Number of respondents | Estimated time per response | Number of reports | Total burden
4,100 | .017 | 4,100 | 68

Total Burden Hours: 68

Total Burden Cost (capital/startup): $0.

Total Burden Cost (operating/maintaining): $0.

Description: The Trade Act of 2002 (Pub. L. 107-210) amends the Trade Act of 1974 and establishes an Alternative Trade Adjustment Assistance (ATAA) program for older workers effective August 6, 2003. Section 246 of Title II, Chapter 2 of the Trade Act of 1974, as amended by the Trade Act of 2002, requires the Secretary of Labor to provide the opportunity for a group of workers on whose behalf a petition for Trade Adjustment Assistance is filed to request that the group of workers be certified for the alternative trade adjustment assistance program at the time the petition is filed. The Request for Determination of Eligibility to Apply for the Alternative Trade Adjustment Assistance (ATAA) Program for Older Workers establishes a temporary format for making such a request. The Department is currently seeking approval of a new TAA petition form (ETA 9109) that includes the option to request certification for ATAA. The Federal Register notice was published on July 7, 2003, 68 FR 40301 with a comment due date of 9/5/2003. The Department will consider comments received in response to this notice as well as comments received in response to the July 7, 2003 notice in finalizing the petition form.

Ira L. Mills,
Departmental Clearance Officer.

[FR Doc. 03-20082 Filed 8-4-03; 10:40 am]

BILLING CODE 4510-30-P